NUCLEAR REGULATORY COMMISSION

[NRC-2018-0073]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from March 27 to April 9, 2018. The last biweekly notice was published on April 10, 2018.

DATES: Comments must be filed by May 24, 2018. A request for a hearing must be filed by June 25, 2018.

ADDRESSES: You may submit comments by any of the following methods (unless this document describes a different method for submitting comments on a specific subject):

• Federal Rulemaking Website: Go to http://www.regulations.gov and search for Docket ID NRC-2018-0073. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington DC 20555-0001; telephone: 301-415-3475, email: Beverly.Clayton@nrc.gov.

SUPPLEMENTARY INFORMATION:

I. Obtaining Information and Submitting Comments

A. Obtaining Information

Please refer to Docket ID NRC-2018-0073, facility name, unit number(s), plant docket number, application date, and subject when contacting the NRC about the availability of information for this action. You may obtain publicly-available information related to this action by any of the following methods:

• Federal Rulemaking Website: Go to http://www.regulations.gov and search for Docket ID NRC-2018-0073.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document

• NRC's PDR: You may examine and purchase copies of public documents at the NRC's PDR, Room O1-F21, One White Flint North, 11555 Rockville Pike, Rockville, Maryland 20852.

B. Submitting Comments

Please include Docket ID NRC-2018-0073, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC, Docket Nos. 50-254 and 50-265, Quad Cities Nuclear Power Station, Unit Nos. 1 and 2, Rock Island County, Illinois

Date of amendment request: February 26, 2018. A publicly-available version is in ADAMS under Accession No. ML18057B125.

Description of amendment request: The proposed amendment would add, delete, modify and replace numerous technical specification (TS) requirements related to operations that have the potential for draining the reactor vessel (OPDRVs) with new requirements on reactor pressure vessel water inventory control (RPV WIC) to protect TS Safety Limit 2.1.1.3. The proposed changes are based on Technical Specifications Task Force (TSTF) traveler TSTF-542, “Reactor Pressure Vessel Water Inventory Control.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be operable at all times in Modes 4 and 5. The current TS requirements do not require any water injection systems, ECCS or otherwise, to be operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that secondary containment and/or filtration would be available if needed.

The proposed change reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed change does not involve a significant increase in the probability or consequences of an accident previously evaluated.

2. Does the proposed amendment create the possibility of a new or different kind of accident from any previously evaluated?

Response: No.

The proposed change replaces existing TS requirements related to OPDRVs with new requirements on RPV WIC that will protect Safety Limit 2.1.1.3. The proposed change will not alter the design function of the equipment involved. Under the proposed change, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Nuclear, 4300 Winfield Road, Warrenville, IL 60555.

NRC Branch Chief: David J. Wrona.

Exelon Generation Company, LLC, Docket Nos. STN 50-456 and STN 50-457, Braidwood Station, Unit Nos. 1 and 2, Will County, Illinois

Exelon Generation Company, LLC, Docket Nos. STN 50-454 and STN 50-455, Byron Station, Unit Nos. 1 and 2, Ogle County, Illinois

Exelon Generation Company, LLC, Docket Nos. 50-317 and 50-318, Calvert Cliffs Nuclear Power Plant, Unit Nos. 1 and 2, Calvert County, Maryland

Exelon Generation Company, LLC, Docket No. 50-461, Clinton Power Station, Unit No. 1, DeWitt County, Illinois

Exelon Generation Company, LLC, Docket Nos. 50-237 and 50-249, Dresden Nuclear Power Station, Unit Nos. 2 and 3, Grundy County, Illinois

Exelon Generation Company, LLC and Exelon FitzPatrick, LLC, Docket No. 50-333, James A. FitzPatrick Nuclear Power Plant, Oswego County, New York

Exelon Generation Company, LLC, Docket Nos. 50-373 and 50-374, LaSalle County Station, Unit Nos. 1 and 2, LaSalle County, Illinois

Exelon Generation Company, LLC, Docket Nos. 50-352 and No. 50-353, Limerick Generating Station, Unit Nos. 1 and 2, Montgomery County, Pennsylvania

Exelon Generation Company, LLC, Docket Nos. 50-220 and 50-410, Nine Mile Point Nuclear Station, Unit Nos. 1 and 2, Oswego County, New York

Exelon Generation Company, LLC, and PSEG Nuclear LLC, Docket Nos. 50-277 and 50-278, Peach Bottom Atomic Power Station, Unit Nos. 2 and 3, York and Lancaster Counties, Pennsylvania

Exelon Generation Company, LLC, Docket Nos. 50-254 and 50-265, Quad Cities Nuclear Power Station, Unit Nos. 1 and 2, Rock Island County, Illinois

Exelon Generation Company, LLC, Docket No. 50-244, R.E. Ginna Nuclear Power Plant, Wayne County, New York

Exelon Generation Company, LLC, Docket No. 50-289, Three Mile Island Nuclear Station, Unit 1, Dauphin County, Pennsylvania

Date of amendment request: March 1, 2018. A publicly-available version is in ADAMS under Accession No. ML18060A266.

Description of amendment request: The amendments would revise the technical specifications for each facility to relocate the staff qualification requirements to the Exelon Generation Company, LLC (EGC) quality assurance topical report.

Basis for proposed no significant hazards consideration determination: As required by 10 CFR 50.91(a), the licensee has provided its analysis of the issue of no significant hazards consideration, which is presented below:

1. Will operation of the facility in accordance with the proposed amendment involve a significant increase in the probability or consequences of an accident previously evaluated?

Response: No.

The proposed changes do not make any physical changes to the plants, are administrative in nature, and do not alter accident analysis assumptions, add any initiators or affect the function of plant systems, or the manner in which systems are operated, maintained, tested, or inspected. The proposed changes do not require any plant modifications which affect the performance capability of the structures, systems and components relied upon to mitigate the consequences of postulated accidents. The unit/facility/plant staff qualification requirements remain the same and are being relocated from the Technical Specifications (TS) to the EGC Quality Assurance Topical Report (QATR).

Based on the above discussion, EGC concludes that the proposed changes do not involve a significant increase in the probability or consequences of an accident previously evaluated.

2. Will the operation of the facility in accordance with the proposed amendment create the possibility of a new or different kind of accident from any accident previously evaluated?

Response: No.

The proposed changes do not involve changes to unit/facility/plant staff selection, qualification and training programs, are administrative in nature, and do not impact physical plant systems. The qualification standards are being relocated from the TS to the EGC QATR. As a result, the ability of the plant to respond to and mitigate accidents is unchanged by the proposed changes. The proposed changes do not alter accident analysis assumptions, add any initiators, or affect the function of plant systems or the manner in which systems are operated, maintained, modified, tested, or inspected.

Based on the above discussion, EGC concludes that the proposed changes do not create the possibility of a new or different kind of accident from any accident previously evaluated.

3. Will operation of the facility in accordance with the proposed amendment involve a significant reduction in a margin of safety?

Response: No.

The proposed changes are administrative in nature. The proposed changes do not affect plant design, hardware, system operation, or procedures for accident mitigation systems. The proposed changes do not impact any plant safety margins that are established in existing limiting conditions for operation, limiting safety systems settings and specified safety limits. There are no changes in the established safety margins of these systems. The proposed changes do not impact the performance or proficiency requirements for licensed operators or unit/facility/plant staff, since the qualification standards are not changing and are only being relocated from the TS to the EGC QATR. As a result, the ability of the plant to respond to and mitigate accidents is unchanged by the proposed changes. Therefore, these proposed changes do not involve a significant reduction in a margin of safety.

Based on the above discussion, EGC concludes that the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

FirstEnergy Nuclear Operating Company, Docket No. 50-440, Perry Nuclear Power Plant, Unit No. 1, Lake County, Ohio

Date of amendment request: February 14, 2018. A publicly-available version is in ADAMS under Accession No. ML18045A195.

Description of amendment request: The proposed amendment would revise Technical Specification Surveillance Requirement 3.3.1.1.2 to verify that the calculated power is no more than 2 percent greater than the average power range monitor (APRM) channel output when operating at greater than or equal to 23.8 percent of rated thermal power. The proposed change is based on Technical Specifications Task Force (TSTF) traveler TSTF-546, “Revise APRM Channel Adjustment Surveillance Requirement.”

Basis for proposed no significant hazards consideration determination: As required by 10 CFR 50.91(a), the licensee has provided its analysis of the issue of no significant hazards consideration, which is presented below:

1. Does the proposed amendment involve a significant increase in the probability or consequences of an accident previously evaluated?

Response: No.

The APRM system and the RPS [reactor protection system] are not initiators of any accidents previously evaluated. As a result, the proposed change does not affect the probability of any accident previously evaluated. The APRM system and the RPS functions act to mitigate the consequences of accidents previously evaluated. The reliability of APRM system and the RPS is not significantly affected by removing the gain adjustment requirement on the APRM channels when the APRMs are calibrated conservatively with respect to the calculated heat balance. This is because the actual core thermal power at which the reactor will automatically trip is lower, thereby increasing the margin to the core thermal limits and the limiting safety system settings assumed in the safety analyses. The consequences of an accident during the adjustment of the APRM instrumentation are no different from those during the existing surveillance testing period or the existing time allowed to restore the instruments to operable status. As a result, the ability of the APRM system and the RPS to mitigate any accident previously evaluated is not significantly affected.

Therefore, the proposed change does not involve a significant increase in the probability or consequences of an accident previously evaluated.

2. Does the proposed amendment create the possibility of a new or different kind of accident from any accident previously evaluated?

Response: No.

The proposed change does not alter the protection system design, create new failure modes, or change any modes of operation. The proposed change does not involve a physical alteration of the plant; no new or different kind of equipment will be installed. Consequently, there are no new initiators that could result in a new or different kind of accident.

Therefore, the proposed change does not create the possibility of a new or different kind of accident from any accident previously evaluated.

3. Does the proposed amendment involve a significant reduction in a margin of safety?

Response: No.

The margin of safety provided by the APRM system and the RPS is to ensure that the reactor is shut down automatically when plant parameters exceed the setpoints for the system. Any reduction in the margin of safety resulting from the adjustment of the APRM channels while continuing operation is considered to be offset by delaying a plant shutdown (i.e., a transient) for a short time with the APRM system, the primary indication of core power and an input to the RPS, not calibrated. Additionally, the short time period required for adjustment is consistent with the time allowed by Technical Specifications to restore the core power distribution parameters to within limits and is acceptable based on the low probability of a transient or design basis accident occurring simultaneously with inaccurate APRM channels.

The proposed change does not alter setpoints or limits established or assumed by the accident analyses. The Technical Specifications continue to require operability of the RPS functions, which provide core protection for postulated reactivity insertion events occurring during power operating conditions consistent with the plant safety analyses.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: David J. Wrona.

Southern Nuclear Operating Company, Docket Nos. 52-025 and 52-026, Vogtle Electric Generating Plant, Unit Nos. 3 and 4, Burke County, Georgia

Date of amendment request: January 31, 2018. A publicly-available version is in ADAMS under Accession No. ML18031B181.

Description of amendment request: The amendment request proposes to depart from the approved combined license (COL) Appendix A, Technical Specifications. The proposed changes revise COL Appendix A, Surveillance Requirements (SR) 3.8.1.2 to identify that the required minimum amperage output for the battery chargers is 150 amps. Additionally, the proposed changes revise COL Appendix A, SR 3.8.7.6 to align the test frequency with the expected life of the AP1000 Class 1E batteries. This submittal requests approval of the license amendment necessary to implement these changes.

Basis for proposed no significant hazards consideration determination: As required by 10 CFR50.91(a), the licensee has provided its analysis of the issue of no significant hazards consideration, which is presented below with NRC staff's edits in square brackets:

1. Does the proposed amendment involve a significant increase in the probability or consequences of an accident previously evaluated?

Response: No.

The changes do not involve an interface with any [structure, system, and component (SSC)] accident initiator or initiating sequence of events, and thus, the probabilities of the accidents evaluated in the plant-specific [Updated Final Safety Analysis Report (UFSAR)] are not affected. The proposed changes do not involve a change to any mitigation sequence or the predicted radiological releases due to postulated accident conditions, thus, the consequences of the accidents evaluated in the UFSAR are not affected. Therefore, the proposed amendment does not involve a significant increase in the probability or consequences of an accident previously evaluated.

2. Does the proposed amendment create the possibility of a new or different kind of accident from any accident previously evaluated?

Response: No.

The proposed changes do not adversely affect any system or design function or equipment qualification as the change does not modify any SSCs that prevent safety functions from being performed. The changes do not introduce a new failure mode, malfunction or sequence of events that could adversely affect safety or safety-related equipment. Therefore, the proposed amendment does not create the possibility of a new or different kind of accident from accident previously evaluated.

3. Does the proposed amendment involve a significant reduction in a margin of safety?

Response: No.

The proposed changes would not affect any safety-related design code, function, design analysis, safety analysis input or result, or existing design/safety margin. No safety analysis or design basis acceptance limit/criterion is challenged or exceed the requested changes. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket No. 50-400, Shearon Harris Nuclear Power Plant, Unit 1, Wake and Chatham Counties, North Carolina

Date of amendment request: May 22, 2017, as supplemented by letters dated October 30 and November 29, 2017.

Brief description of amendment: The amendment revised the licensing basis as described in Updated Final Safety Analysis Report to provide gap release fractions for high-burnup fuel rods that exceed the 6.3 kilowatt per foot linear heat generation rate limit detailed in Table 3 of Regulatory Guide 1.183 (ADAMS Accession No. ML003716792).

Date of issuance: March 26, 2018.

Effective date: As of the date of issuance and shall be implemented within 120 days of issuance.

Amendment No.: 163. A publicly-available version is in ADAMS under Accession No. ML18045A060; documents related to this amendment are listed in the Safety Evaluation enclosed with the amendment.

Renewed Facility Operating License No. NPF-63: Amendment revised the Renewed Facility Operating License.

Date of initial notice in Federal Register: August 29, 2017 (82 FR 41067). The supplemental letters dated October 30 and November 29, 2017, provided additional information that clarified the application, did not expand the scope of the application as originally noticed, and did not change the staff's original proposed no significant hazards consideration determination as published in the Federal Register.

The Commission's related evaluation of the amendment is contained in a Safety Evaluation dated March 26, 2018.

No significant hazards consideration comments received: No.

Energy Northwest, Docket No. 50-397, Columbia Generating Station (CGS), Benton County, Washington

Date of application for amendment: March 27, 2017, as supplemented by letter dated January 2, 2018.

Brief description of amendment: The amendment revised CGS Technical Specification (TS) 5.5.12, “Primary Containment Leakage Rate Testing Program,” in accordance with Nuclear Energy Institute (NEI) 94-01, Revision 3-A, “Industry Guideline for Implementing Performance-Based Option of 10 CFR part 50, Appendix J,” July 2012, and the conditions and limitations specified in NEI 94-01, Revision 2-A, “Industry Guideline for Implementing Performance-Based Option of 10 CFR part 50, Appendix J,” dated October 2008, which serves as the guidance document for implementation of performance-based Option B of 10 CFR part 50, Appendix J.

Date of issuance: March 30, 2018.

Effective date: As of its date of issuance and shall be implemented within 120 days from the date of issuance.

Amendment No.: 247. A publicly-available version is in ADAMS under Accession No. ML18052B185; documents related to this amendment are listed in the Safety Evaluation enclosed with the amendment.

Renewed Facility Operating License No. NPF-21: The amendment revised the Renewed Facility Operating License and TSs.

Date of initial notice in Federal Register: June 6, 2017 (82 FR 26131). The supplemental letter dated January 2, 2018, provided additional information that clarified the application, did not expand the scope of the application as originally noticed, and did not change the NRC staff's original proposed no significant hazards consideration determination as published in the Federal Register.

The Commission's related evaluation of the amendment is contained in a Safety Evaluation dated March 30, 2018.

No significant hazards consideration comments received: No.

Entergy Nuclear Operations, Inc., Docket No. 50-271, Vermont Yankee Nuclear Power Station, Vernon, Vermont

Date of amendment request: May 15, 2017, as supplemented by letter dated November 16, 2017.

Brief description of amendment: The amendment is for a revision to the site emergency plan and emergency action level scheme to reflect an Independent Spent Fuel Storage Instillation (ISFSI)-only configuration for the storage of spent nuclear fuel onsite once all of the spent nuclear fuel is placed in the ISFSI in 2018.

Date of issuance: March 30, 2018.

Effective date: This license amendment is effective as of the date the licensee notifies the NRC in writing that all spent nuclear fuel assemblies have been transferred out of the spent fuel pool and have been placed in dry storage within the ISFSI. The license amendment shall be implemented within 60 days of the effective date.

Amendment No.: 267. A publicly-available version is in ADAMS under Accession No. ML18053A111; documents related to this amendment are listed in the Safety Evaluation enclosed with the amendment.

Facility Operating License No. DPR-28: The amendment revised the Facility Operating License.

Date of initial notice in Federal Register: July 18, 2017 (82 FR 32879). The supplemental letter dated November 16, 2017, provided additional information that clarified the application, did not expand the scope of the application as originally noticed, and did not change the staff's original proposed no significant hazards consideration determination as published in the Federal Register.

The Commission's related evaluation of the amendment is contained in a Safety Evaluation dated March 30, 2018.

No significant hazards consideration comments received: No.

Exelon Generation Company, LLC, Docket No. 50-410, Nine Mile Point Nuclear Station, Unit 2, Oswego County, New York

Date of amendment request: February 28, 2017, as supplemented by letters dated November 3, December 27, 2017, January 12, and February 6, 2018.

Brief description of amendment: The amendment revises the Nine Mile Point Nuclear Station, Unit 2, Technical Specifications by replacing the existing specifications related to “operations with a potential for draining the reactor vessel,” with revised requirements for reactor pressure vessel water inventory control to protect Safety Limit 2.1.1.3, which requires reactor vessel water level to be greater than the top of active irradiated fuel. The revisions, with variations as noted in the license amendment request, are based on the NRC-approved Technical Specifications Task Force Traveler TSTF-542, Revision 2, “Reactor Pressure Vessel Water Inventory Control” (ADAMS Accession No. ML16074A448).

Date of issuance: March 28, 2018.

Effective date: As of the date of issuance and shall be implemented no later than the start of the Nine Mile Point Nuclear Station, Unit 2, spring 2018, refueling outage.

Amendment No.: 168. A publicly-available version is in ADAMS under Accession No. ML18073A364; documents related to this amendment are listed in the Safety Evaluation enclosed with the amendment.

Renewed Facility Operating License No. NPF-69: Amendment revised the Renewed Facility Operating License and Technical Specifications.

Date of initial notice in Federal Register: April 25, 2017 (82 FR 19102). The supplements dated November 3, December 27, 2017, January 12, and February 6, 2018, provided additional information that clarified the application, did not expand the scope of the application as originally noticed, and did not change the NRC staff's original proposed no significant hazards consideration determination.

The Commission's related evaluation of the amendment is contained in a Safety Evaluation dated March 28, 2018.

No significant hazards consideration comments received: No.

Florida Power & Light Company, Docket No. 50-250, Turkey Point Nuclear Generating Unit No. 3, Miami-Dade County, Florida

Date of amendment request: December 18, 2017, as supplemented by letter dated February 16, 2018.

Brief description of amendment: The amendment revised the Technical Specifications to allow a one-time extension of the allowable outage time for the Unit 3 Containment Spray System from 72 hours to 14 days.

Date of issuance: April 3, 2018.

Effective date: As of the date of issuance and shall be implemented within 90 days of issuance.

Amendment No.: 280. A publicly-available version is in ADAMS under Accession No. ML18075A348; documents related to the amendment are listed in the Safety Evaluation enclosed with the amendment.

Renewed Facility Operating License No. DPR-31: Amendment revised the Renewed Facility Operating License and Technical Specifications.

Date of initial notice in Federal Register: January 30, 2018 (83 FR 4285). The supplemental letter dated February 16, 2018, provided additional information that clarified the application, did not expand the scope of the application as originally noticed, and did not change the staff's original proposed no significant hazards consideration determination as published in the Federal Register.

The Commission's related evaluation of the amendment is contained in a Safety Evaluation dated April 3, 2018.

No significant hazards consideration comments received: No.

Indiana Michigan Power Company, Docket Nos. 50-315 and 50-316, Donald C. Cook Nuclear Plant, Unit Nos. 1 and 2, Berrien County, Michigan

Date of amendment request: May 23, 2017, as supplemented by letter dated December 8, 2017.

Brief description of amendments: The amendments change the emergency plan for the Donald C. Cook Nuclear Plant, Unit Nos. 1 and 2, by revising the emergency action level scheme to one based on the Nuclear Energy Institute (NEI) document NEI 99-01, Revision 6, “Development of Emergency Action Levels for Non-Passive Reactors.”

Date of issuance: April 5, 2018.

Effective date: As of the date of issuance and shall be implemented within 180 days of issuance.

Amendment Nos.: 339 (Unit No. 1) and 321 (Unit No. 2). A publicly-available version is in ADAMS under Accession No. ML18057B067; documents related to these amendments are listed in the Safety Evaluation enclosed with the amendments.

Renewed Facility Operating License Nos. DPR-58 and DPR-74: Amendments revised the Renewed Facility Operating Licenses.

Date of initial notice in Federal Register: July 5, 2017 (82 FR 31098). The supplemental letter dated December 8, 2017, provided additional information that clarified the application, did not expand the scope of the application as originally noticed, and did not change the staff's original proposed no significant hazards consideration determination as published in the Federal Register.

The Commission's related evaluation of the amendment is contained in a Safety Evaluation dated April 5, 2018.

No significant hazards consideration comments received: No.

Omaha Public Power District, Docket No. 50-285, Fort Calhoun Station, Unit 1 (FCS), Washington County, Nebraska

Date of amendment request: June 16, 2017.

Brief description of amendment: The amendment would remove the FCS Cyber Security Plan (CSP) from FCS License Condition 3.C.

Date of issuance: March 28, 2018.

Effective date: As of April 7, 2018, and shall be implemented by July 6, 2018.

Amendment No.: 298. A publicly-available version is in ADAMS under Accession No. ML18047A661; documents related to this amendment are listed in the Safety Evaluation enclosed with the amendment.

Renewed Facility License No. DPR-40: The amendment revised the Renewed Facility License.

Date of initial notice in Federal Register: August 15, 2017 (82 FR 38718).

The Commission's related evaluation of the amendment is contained in a Safety Evaluation dated March 28, 2018.

No significant hazards consideration comments received: No.

Southern Nuclear Operating Company, Docket Nos. 52-025 and 52-026, Vogtle Electric Generating Plant (VEGP), Unit Nos. 3 and 4, Burke County, Georgia

Date of amendment request: September 29, 2017, and supplemented January 31, 2018.

Description of amendment: The amendment authorizes changes to the VEGP Unit Nos. 3 and 4 Combined License page 7, and Updated Final Safety Analysis Report, including Tier 2* and associated Tier 2 to depart from certain information related to human engineering deficiencies contained in Westinghouse Electric Company's report APP-OCS-GEH-320, titled, “AP1000 Human Factors Engineering Integrated Systems Validation Plan.”

Date of issuance: March 22, 2018.

Effective date: As of the date of issuance and shall be implemented within 30 days of issuance.

Amendment Nos.: 116 (Unit 3) and 115 (Unit 4). The publicly-available versions are in an ADAMS package under Accession No. ML18044A071, which includes the Safety Evaluation that references documents related to this amendment.

Facility Combined Licenses Nos. NPF-91 and NPF-92: Amendment revised the Facility Combined Licenses.

Date of initial notice in Federal Register: November 21, 2017 (82 FR 55413). The supplement dated January 31, 2018, provided additional information that clarified the application, did not expand the scope of the application as originally noticed, and did not change the NRC staff's original proposed no significant hazards consideration determination.

The Commission's related evaluation of the amendment is contained in the Safety Evaluation dated March 22, 2018.

No significant hazards consideration comments received: No.

Southern Nuclear Operating Company, Docket Nos. 52-025 and 52-026, Vogtle Electric Generating Plant (VEGP), Unit Nos. 3 and 4, Burke County, Georgia

Date of amendment request: September 22, 2017.

Description of amendment: The amendments consist of changes to Combined License Appendix A, Technical Specifications (TS). Specifically, the changes add new TS 3.1.10, Rod Withdrawal Test Exception—MODE 5, and modify TS Limiting Condition for Operation (LCO) 3.0.7, to allow rod movement and rod drop time testing under cold conditions (MODE 5). Additionally, the LCO Applicability of TS 3.4.8, Minimum Reactor Coolant System Flow, is revised to reflect its safety analysis basis.

Date of issuance: March 28, 2018.

Effective date: As of the date of issuance and shall be implemented within 30 days of issuance.

Amendment Nos.: 117 (Unit 3) and 116 (Unit 4). A publicly-available version is in ADAMS under Accession No. ML18060A411; documents related to this amendment are listed in the Safety Evaluation enclosed with the amendment.

Facility Combined Licenses Nos. NPF-91 and NPF-92: Amendment revised the Facility Combined License.

Date of initial notice in Federal Register: October 24, 2017 (82 FR 49240).

The Commission's related evaluation of the amendment is contained in the Safety Evaluation dated March 28, 2018.

No significant hazards consideration comments received: No.

Southern Nuclear Operating Company, Docket Nos. 52-025 and 52-026, Vogtle Electric Generating Plant (VEGP), Unit Nos. 3 and 4, Burke County, Georgia

Date of amendment request: July 28, 2017.

Description of amendment: The amendment authorizes changes to the VEGP Units 3 and 4 Updated Final Safety Analysis Report to change Technical Specification (TS) Section 1.1, “Definition of Actuation Logic Test,” by adding a new TS Section 1.1, “Definition of Actuation Logic Output Test (ALOT),” revising existing Surveillance Requirements (SR) 3.3.15.1 and 3.3.16.1, and adding new SR 3.3.15.2 and SR 3.3.16.2 to implement the new ALOT.

Date of issuance: March 29, 2018.

Effective date: As of the date of issuance and shall be implemented within 30 days of issuance.

Amendment Nos.: 119 (Unit 3) and 118 (Unit 4). A publicly-available version is in ADAMS under Accession No. ML18064A340, which contains documents that are related to this amendment and are listed in the Safety Evaluation enclosed with this amendment.

Facility Combined Licenses Nos. NPF-91 and NPF-92: Amendment revised the Facility Combined License.

Date of initial notice in Federal Register: November 21, 2017 (82 FR 55410).

The Commission's related evaluation of the amendment is contained in the Safety Evaluation dated March 29, 2018.

No significant hazards consideration comments received: No.

Tennessee Valley Authority, Docket No. 50-390, Watts Bar Nuclear Plant, Unit 1, Rhea County, Tennessee

Date of amendment request: March 16, 2017, as supplemented by letter dated August 31, 2017.

Brief description of amendment: The amendment revised Technical Specification Table 3.3.1-1, “Reactor Trip System Instrumentation,” to reflect plant modifications to the reactor protection system instrumentation associated with the turbine trip on low fluid oil pressure.

Date of issuance: March 28, 2018.

Effective date: As of the date of issuance and shall be implemented no later than startup from the Unit 1 refueling outage scheduled for fall 2018.

Amendment No.: 119. A publicly-available version is in ADAMS under Accession No. ML18052B347; documents related to this amendment are listed in the Safety Evaluation enclosed with the amendment.

Facility Operating License No. NPF-90: Amendment revised the Facility Operating License and Technical Specifications.

Date of initial notice in Federal Register: June 6, 2017 (82 FR 26140). The supplemental letter dated August 31, 2017, provided additional information that clarified the application, did not expand the scope of the application as originally noticed, and did not change the staff's original proposed no significant hazards consideration determination as published in the Federal Register.

The Commission's related evaluation of the amendment is contained in a Safety Evaluation dated March 28, 2018.

No significant hazards consideration comments received: No.

Dated at Rockville, Maryland, this 12th day of April 2018.
For the Nuclear Regulatory Commission.
Tara Inverso,
Acting Deputy Director, Division of Operating Reactor Licensing, Office of Nuclear Reactor Regulation.

[FR Doc. 2018-08070 Filed 4-23-18; 8:45 am]

BILLING CODE 7590-01-P